SMALL BUSINESS ADMINISTRATION

[License No. 04/74-0285]

Delta Venture Partners I, L.P.; Notice Seeking Exemption Under Section 312 of the Small Business Investment Act, Conflicts of Interest

Notice is hereby given that Delta Venture Partners I, L.P., 8000 Centerview Parkway, Suite 100, Cordova, TN 38018, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2000)). Delta Venture Partners I, L.P., owned greater than 10 percent of Forum Technologies, Inc., and therefore, Forum Technologies, Inc. is considered an Associate of Delta Venture Partners I, L.P. proposes to provide equity/debt security financing to Forum Technologies, Inc. (d.b.a. Appraisal Forum), 6800 Poplar Avenue, Suite 121, Memphis, TN 38138. The financing is contemplated for national sales force expansion and working capital.

The financing is brought within the purview of Section 107.730(a)(1) of the Regulations because John A. Bobango, an Associate of Delta Venture Partners I, L.P., owned greater than 10 percent of Forum Technologies Inc., and therefore, Forum Technologies, Inc., is considered an Associate of Delta Venture Partners I, L.P. as defined in Section 107.50 of the Regulations.

Notice is hereby given that any interested persons may submit written comments on the transaction to the Associate Administrator for Investment, U.S. Small Business Administration, 409 Third Street, SW., Washington, DC 20416.

Dated: January 22, 2002.
Harry Haskins,
Acting Associate Administrator for Investment

[FR Doc. 02-8213 Filed 4-4-02; 8:45 am]

BILLING CODE 8025-01-M